DEPARTMENT OF HEALTH AND HUMAN SERVICES

Centers for Disease Control and Prevention

[60Day-21-0800; Docket No. CDC-2021-0072]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Focus Group Testing to Effectively Plan and Tailor Cancer Prevention and Control Communication Campaigns. CDC is requesting a Revision to this Generic Clearance to include an additional cancer-related communications campaign, expand the modes of data collection to include online focus groups and in-depth interviews (in-person, phone, and online), and to focus on respondents from the general public.

DATES: CDC must receive written comments on or before September 24, 2021.

ADDRESSES: You may submit comments, identified by Docket No. CDC-2021-0072 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Focus Group Testing to Effectively Plan and Tailor Cancer Prevention and Control Communications Campaigns—(OMB Control No. 0920-0800, Exp. 10/31/2021)—Revision—National Center for Chronic Disease Prevention and Health Promotion (NCCDPHP), Centers for Disease Control and Prevention (CDC).

Background and Brief Description

The mission of the CDC's Division of Cancer Prevention and Control (DCPC) is to reduce the burden of cancer in the United States through cancer prevention, reduction of risk, early detection, and improved quality of life for cancer survivors. Toward this end, the DCPC supports the scientific development and implementation of various health communication campaigns with an emphasis on specific cancer burdens.

This process requires testing of messages, concepts, and materials prior to their final development and dissemination, as described in the second step of the health communication process. The health communication process is a scientific model developed by the U.S. Department of Health and Human Services' National Cancer Institute to guide sound campaign development. The communication literature supports various data collection methods to conduct credible formative, concept, message, and materials testing. This process ensures that the public clearly understands cancer-specific information and concepts, are motivated to take the desired action, and do not react negatively to the messages. CDC is currently approved to collect information needed to plan and tailor cancer communication campaigns (OMB Control No. 0920-0800, Exp. 10/31/2021), and seeks OMB approval to revise the existing generic clearance to include another cancer-related communications campaign, expand the modes of data collection to include online focus groups and in-depth interviews (in-person, phone, and online), and to focus on respondents from the general public.

Information collection will involve discussions to assess numerous qualitative dimensions of cancer prevention and control messages including, but not limited to, cancer knowledge, attitudes, beliefs, behavioral intentions, information needs and sources, and compliance with cancer screening as recommended by the United States Preventive Services Task Force. Insights gained from these discussions will assist in the development and/or refinement of future campaign messages and materials. Communication campaigns and messages will vary according to the type of cancer and the qualitative dimensions of the message described above. A separate information collection request will be submitted to OMB for approval of each discussion activity. The request will describe the purpose of the activity and include the customized information collection instruments.

OMB approval is requested for three years. There is no change in burden hours or respondents. Participation is voluntary and there are no costs to respondents except their time. CDC requests approval for an estimated 1,680 annual burden hours.

Estimated Annualized Burden Hours
Type of respondents | Form name | Number of respondents | Number of responses per respondent | Average burden per response (in hours) | Total burden (in hours)
General Public | Screening Form | 1600 | 1 | 3/60 | 80
General Public | Discussion Guide | 800 | 1 | 2 | 1,600
Total |  |  |  |  | 1,680

Jeffrey M. Zirger,
Lead, Information Collection Review Office, Office of Scientific Integrity, Office of Science, Centers for Disease Control and Prevention.

[FR Doc. 2021-15795 Filed 7-23-21; 8:45 am]

BILLING CODE 4163-18-P